DEPARTMENT OF TRANSPORTATION

Federal Aviation Administration

14 CFR Part 39

[Docket No. FAA-2007-28881; Directorate Identifier 2006-NM-263-AD]

RIN 2120-AA64

Airworthiness Directives; McDonnell Douglas Model DC-9-10, DC-9-20, DC-9-30, DC-9-40, and DC-9-50 Series Airplanes, Equipped with a Tail Cone Evacuation Slide Container Installed in Accordance With Supplemental Type Certificate (STC) ST735SO

AGENCY: Federal Aviation Administration (FAA), Department of Transportation (DOT).

ACTION: Notice of proposed rulemaking (NPRM).

SUMMARY: The FAA proposes to adopt a new airworthiness directive (AD) for McDonnell Douglas Model DC-9-10, DC-9-20, DC-9-30, DC-9-40, and DC-9-50 series airplanes, equipped with tail cone evacuation slide containers as specified above. This proposed AD would require modifying the tail cone slide. This proposed AD also would require additional tail cone drops and slide deployments, and repair if necessary. This proposed AD results from several reports of inadvertent tail cone deployments in which the tail cone slide failed to deploy. We are proposing this AD to ensure that the tail cone evacuation slide deploys correctly; failure of the slide to deploy during an emergency evacuation could result in injury to flightcrew and passengers.

DATES: We must receive comments on this proposed AD by September 20, 2007.

ADDRESSES: Use one of the following addresses to submit comments on this proposed AD.

• DOT Docket Web site: Go to http://dms.dot.gov and follow the instructions for sending your comments electronically.

• Government-wide Rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Northwest Airlines, Inc., 7500 Airline Drive, Minneapolis, Minnesota, 55450-1101, Mail Stop: 8953, for the service information identified in this proposed AD.

FOR FURTHER INFORMATION CONTACT: Cheyenne Del Carmen, Aerospace Engineer, Cabin Safety/Mechanical and Environmental Systems Branch, ANM-150L, FAA, Los Angeles Aircraft Certification Office, 3960 Paramount Boulevard, Lakewood, California 90712-4137; telephone (562) 627-5338; fax (562) 627-5210.

SUPPLEMENTARY INFORMATION:

Comments Invited

We invite you to submit any relevant written data, views, or arguments regarding this proposed AD. Send your comments to an address listed in the ADDRESSES section. Include the docket number “FAA-2007-28881; Directorate Identifier 2006-NM-263-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the street address stated in the ADDRESSES section. Comments will be available in the AD docket shortly after the Docket Management System receives them.

Discussion

We have received several reports that the tail cone emergency slide failed to deploy on McDonnell Douglas Model DC-9-10, DC-9-20, DC-9-30, DC-9-40, and DC-9-50 series airplanes, equipped with tail cone evacuation slide containers installed in accordance with supplemental type certificate (STC) ST735SO. Although we are doing further investigation and analysis, it appears that the failures resulted from either the slide container not clearing the immediate area around the slide when the slide deployment handle is pulled, or contaminated Velcro attachments that allow the slide container lanyard to separate without pulling the container off and activating the inflation bottle.

STC ST735SO for the tail cone emergency slide containers was surrendered to the Los Angeles Aircraft Certification Office (ACO), FAA, on January 21, 2003. Therefore, there is no manufacturer's service information related to this proposed AD. The affected operator must submit a method of compliance to the FAA for approval.

Failure of the slide to deploy during an emergency evacuation could result in injury to flightcrew and passengers.

FAA's Determination and Requirements of the Proposed AD

We have evaluated all pertinent information and identified an unsafe condition that is likely to exist or develop on other products of this same type design. For this reason, we are proposing this AD, which would require operators to modify the tail cone slide in accordance with a method approved by the FAA. One approved method is Northwest Airlines STC ST01967CH, issued March 19, 2007. STC ST01967CH describes the modification of the DC-9 tail cone slide. (STC ST01967CH refers to Northwest Airlines, Drawing 9B25-41477, Revision B, dated September 14, 2006; and Northwest Airlines, Drawing 9B25-90399, Revision D, dated December 21, 2006; as additional sources of service information for modifying the tail cone slide.) This proposed AD also would require additional tail cone drops and slide deployments to be done no earlier than 150 flight cycles and no later than 24 months after modifying the tail cone slide, for a minimum of 10 percent of an operator's fleet of affected airplanes (if fewer than 10 airplanes in the fleet: at least 1 airplane). If the tailcone and slide deployment is unsuccessful, this proposed AD would require repair in accordance with a method approved by the FAA.

Costs of Compliance

There are about 400 airplanes of the affected design in the worldwide fleet. This proposed AD would affect about 300 airplanes of U.S. registry. The tail cone drops/slide deployments would take about 16 work hours per airplane, at an average labor rate of $80 per work hour. Required parts would cost about $1,300 per airplane. Based on these figures, the estimated cost of the proposed AD for U.S. operators is about $774,000, or $2,580 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2007-28881; Directorate Identifier 2006-NM-263-AD.

Comments Due Date

(a) The FAA must receive comments on this AD action by September 20, 2007.

Affected ADs

(b) None.

Applicability

(c) This AD applies to McDonnell Douglas Model DC-9-11, DC-9-12, DC-9-13, DC-9-14, DC-9-15, DC-9-15F, DC-9-21, DC-9-31, DC-9-32, DC-9-32 (VC-9C), DC-9-32F, DC-9-33F, DC-9-34, DC-9-34F, DC-9-32F (C-9A, C-9B), DC-9-41, and DC-9-51 airplanes, certificated in any category, equipped with a tail cone evacuation slide container installed in accordance with supplemental type certificate (STC) ST735SO.

Unsafe Condition

(d) This AD results from several reports of inadvertent tail cone deployments in which the tail cone slide failed to deploy. We are issuing this AD to ensure that the tail cone evacuation slide deploys correctly; failure of the slide to deploy during an emergency evacuation could result in injury to flightcrew and passengers.

Compliance

(e) You are responsible for having the actions required by this AD performed within the compliance times specified, unless the actions have already been done.

Initial Actions To Address Slide Deployment Failures

(f) Within 24 months after the effective date of this AD: Modify the tail cone slide in accordance with a method approved by the Manager, Los Angeles Aircraft Certification Office (ACO), FAA. Northwest Airlines STC ST01967CH, issued March 19, 2007, is one approved method.

Note 1: STC ST01967CH refers to Northwest Airlines, Drawing 9B25-41477, Revision B, dated September 14, 2006; and Northwest Airlines, Drawing 9B25-90399, Revision D, dated December 21, 2006; as additional sources of service information for modifying the tail cone slide.

Repeat Deployment and Terminating Action

(g) Within 150 flight cycles after doing the modification required by paragraph (f) of this AD, or within 150 days after the effective date of this AD, whichever occurs later: Do additional tail cone drops and slide deployments on a minimum of 10 percent of an operator's fleet of affected airplanes (if fewer than 10 airplanes in the fleet: At least one airplane).

(1) If the tailcone and slide deployments are successful according to the applicable McDonnell Douglas DC-9 maintenance manual, no further action is required by this AD.

(2) If any tailcone and slide deployment is unsuccessful according to the applicable McDonnell Douglas DC-9 maintenance manual, before further flight, repair in accordance with a method approved by the Manager, Los Angeles ACO, FAA.

Alternative Methods of Compliance (AMOCs)

(h)(1) The Manager, Los Angeles ACO, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on July 30, 2007.
Ali Bahrami,
Manager, Transport Airplane Directorate, Aircraft Certification Service.

[FR Doc. E7-15237 Filed 8-3-07; 8:45 am]

BILLING CODE 4910-13-P